FEDERAL ELECTION COMMISSION

Sunshine Act Meeting

AGENCY: Federal Election Commission.

DATE AND TIME: Thursday, May 19, 2016 at 10:00 a.m.

PLACE: 999 E Street NW., Washington, DC (Ninth Floor).

STATUS: This meeting will be open to the public.

Items To Be Discussed

Draft Advisory Opinion 2016-04: Grand Trunk Western Railroad Co.—Illinois Railroad Co. Political Action Committee

Draft Final Rule and Explanation and Justification for Technical Amendments to 2015 CFR

Proposed Statement of Policy Regarding the Public Disclosure of Closed Enforcement Files

Management and Administrative Matters

Individuals who plan to attend and require special assistance, such as sign language interpretation or other reasonable accommodations, should contact Shawn Woodhead Werth, Secretary and Clerk, at (202) 694-1040, at least 72 hours prior to the meeting date.

PERSON TO CONTACT FOR INFORMATION: Judith Ingram, Press Officer, Telephone: (202) 694-1220.

Shelley E. Garr,
Deputy Secretary of the Commission.

[FR Doc. 2016-11636 Filed 5-12-16; 4:15 pm]

BILLING CODE 6715-01-P